DEPARTMENT OF THE TREASURY

Government Securities: Call for Large Position Reports

AGENCY: Office of the Assistant Secretary for Financial Markets, Treasury.

ACTION: Notice of call for Large Position Reports.

SUMMARY: The U.S. Department of the Treasury (Treasury) called for the submission of Large Position Reports by entities whose positions in the Treasury Bill of June 8, 2023 equaled or exceeded $10.2 billion as of Friday, April 28, 2023, or Friday, May 5, 2023. This Bill has CUSIP 912796ZP7 and was originally auctioned as a 182-Day (i.e., 26-Week) Bill on December 5, 2022, and issued on December 8, 2022, with a maturity date of June 8, 2023. This Bill was subsequently reopened as a 91-Day (i.e., 13-Week) Bill on March 6, 2023, and issued on March 9, 2023.

DATES: Reports must be received by 12 p.m. Eastern Time on Monday, July 17, 2023.

ADDRESSES: Reports may be submitted using Treasury's webform (available at https://www.treasurydirect.gov/laws-and-regulations/gsa/lpr-form/). Reports may also be faxed to Treasury at (202) 504-3788 if a reporting entity has difficulty using the webform.

FOR FURTHER INFORMATION CONTACT: Lori Santamorena, John Garrison, or Kevin Hawkins; Government Securities Regulations Staff, Department of the Treasury, at 202-504-3632 or govsecreg@fiscal.treasury.gov.

SUPPLEMENTARY INFORMATION: In a public announcement issued on July 11, 2023, and in this Federal Register notice, Treasury called for Large Position Reports from entities whose positions in the Treasury Bill of June 8, 2023 (CUSIP 912796ZP7) equaled or exceeded $10.2 billion as of Friday, April 28, 2023, or Friday, May 5, 2023. Entities must submit separate reports for each reporting date on which their positions equaled or exceeded the $10.2 billion reporting threshold. Entities with positions in this Treasury Bill below the reporting threshold are not required to submit Large Position Reports.

This call for Large Position Reports is pursuant to Treasury's large position reporting rules under the Government Securities Act regulations (17 CFR part 420), promulgated pursuant to 15 U.S.C. 78o-5(f). Reports must be received by Treasury before 12:00 p.m. Eastern Time on Monday, July 17, 2023, and must include the required positions and administrative information.

The public announcement, a copy of a sample Large Position Report which appears in Appendix B of the rules at 17 CFR part 420, supplementary formula guidance, and a series of training modules are available at https://www.treasurydirect.gov/laws-and-regulations/gsa/lpr-reports/.

Non-media questions about Treasury's large position reporting rules and the submission of Large Position Reports should be directed to Treasury's Government Securities Regulations Staff at (202) 504-3632 or govsecreg@fiscal.treasury.gov.

The collection of large position information has been approved by the Office of Management and Budget pursuant to the Paperwork Reduction Act under OMB Control Number 1530-0064.

Joshua Frost,
Assistant Secretary for Financial Markets.

[FR Doc. 2023-15006 Filed 7-13-23; 8:45 am]

BILLING CODE 4810-AS-P